ENVIRONMENTAL PROTECTION AGENCY

[EPA-R05-OAR-2008-0235; FRL-8960-4]

Notice of Issuance of Part 71 Federal Operating Permit to Veolia Environmental Services

AGENCY: Environmental Protection Agency (EPA).

ACTION: Notice.

SUMMARY: This notice announces that, on September 12, 2008, pursuant to Title V of the Clean Air Act (CAA), EPA issued a Title V Permit to Operate (Title V permit) to Veolia Environmental Services (Veolia). This permit authorizes Veolia to operate its facility in Sauget, Illinois. Veolia's Sauget facility is a treatment, storage and disposal facility, which accepts offsite waste for further disposal through incineration. Containers and bulk shipments of hazardous and solid wastes are received, analyzed and transferred to temporary storage facilities, processed and incinerated in one of three combustion units.

DATES: During the public comment period, which ended July 18, 2008, EPA received comments on the draft Title V permit. EPA responded to the comments and issued the final permit on September 12, 2008. No one appealed the permit to the Environmental Appeals Board (EAB). Therefore, in accordance with 40 CFR 71.11 the permit became effective 30 days after permit issuance, October 12, 2008.

ADDRESSES: The final signed permit is available for public inspection online at http://www.regulations.gov, docket ID EPA-R05-OAR-2008-0235, or during normal business hours at the following address: EPA, Region 5, 77 West Jackson Boulevard (AR-18J), Chicago, Illinois 60604.

FOR FURTHER INFORMATION CONTACT: Genevieve Damico, Environmental Engineer, EPA, Region 5, 77 W. Jackson Boulevard (AR-18J), Chicago, Illinois 60604, (312) 353-4761, or damico.genevieve@epa.gov.

SUPPLEMENTARY INFORMATION: This supplemental information is organized as follows:

A. What Is the Background Information?

B. What Is the Purpose of This Notice?

A. What Is the Background Information?

Veolia (formerly Onyx Environmental Services) submitted to Illinois Environmental Protection Agency (IEPA) on September 7, 1995, an application for a Title V permit for its facility in Sauget, Illinois. IEPA issued a draft Title V permit on June 6, 2003, and the public comment period for the permit ended September 12, 2003. During the public comment period, IEPA received comments on the draft permit. IEPA revised the permit and submitted the proposed permit to EPA on November 6, 2003. EPA did not object to the proposed permit within its 45-day review period, which ended December 21, 2003.

On February 18, 2004, EPA received a petition from the Sierra Club and American Bottom Conservancy requesting that EPA object to issuance of the Veolia Title V permit, pursuant to Section 505(b)(2) of the CAA and 40 CFR 70.8(d). On February 1, 2005, EPA issued an order granting the petition in part and denying it in part. Pursuant to 40 CFR 70.8(c), this action started a 90-day period during which IEPA was required to issue a revised Title V permit that addressed the issues raised in the February 1, 2005 order. IEPA did not issue the permit within the 90-day window. The Sierra Club and the American Bottom Conservancy sued EPA, alleging that EPA had a duty to issue the permit following the State of Illinois' failure to timely issue the revised permit.

On September 29, 2006, EPA announced its intent to issue or deny a Federal Title V permit. Veolia submitted a Part 71 permit application to EPA on May 2, 2007. EPA deemed the application administratively complete on June 13, 2007. EPA issued a draft permit for public comment on June 5, 2008, and held a public hearing on July 8, 2008. We received both oral and written comment on the draft permit. We issued a final permit on September 12, 2008, after considering all the comments we received.

On September 12, 2008, EPA notified by letter all parties that participated in the public comment process of the issuance of the final permit. The letter also explained the commenters' right to petition the EAB to review any condition of the permit decision pursuant to 40 CFR 71.11(l)(1).

B. What Is the Purpose of This Notice?

EPA is notifying the public of the issuance of the Title V permit to Veolia on September 12, 2008. Pursuant to 40 CFR 71.11(l)(4), because no one appealed the permit to the EAB following EPA's September 12, 2008, letter notification of the final permit, no one may seek judicial review of this final Agency action. The permit became effective on October 12, 2008.

Dated: September 11, 2009.
Bharat Mathur,
Acting Regional Administrator, Region 5.

[FR Doc. E9-22907 Filed 9-22-09; 8:45 am]

BILLING CODE 6560-50-P